ENVIRONMENTAL PROTECTION AGENCY

[OEI-100008; FRL-6723-1]

Workshop Schedules for EPCRA/TRI Training: Spring 2001

AGENCY: Environmental Protection Agency (EPA).

ACTION: Notice.

SUMMARY: EPA will conduct EPCRA/TRI Training workshops across the country during the spring of 2001. These workshops are intended to assist persons preparing their annual reports on release and other waste management activities as required under sections 313 of the Emergency Planning and Community Right-To-Know Act of 1986 (EPCRA) and section 6607 of the Pollution Prevention Act of 1990 (PPA). These reports must be submitted to EPA and designated state officials on or before July 1, 2001.

FOR FURTHER INFORMATION CONTACT: Priscilla Evans, Workshop Coordinator (202) 260-9124, evans.priscilla@epa.gov for specific information on this notice. Information concerning the EPCRA/TRI Training workshops is also available on EPA's web site at http://www.epa.gov/tri.

SUPPLEMENTARY INFORMATION:

I. General Information

A. Does this Notice Apply to Me?

You may find this notice applicable if you manufacture, process, or otherwise use any EPCRA section 313 listed toxic chemical. Potentially applicable categories and entities may include, but are not limited to:

Category | Examples of regulated entities
Industry | Metal mining, Coal mining, Manufacturing, Electricity generating facilities, Hazardous waste treatment/TSDF, Chemicals and allied products-wholesale, Petroleum bulk plants and terminals, and Solvent recovery services.
Federal Government | Federal facilities.

This table is not intended to be exhaustive, but rather provides a guide for readers regarding entities likely to find this notice of training course offerings applicable. Other types of entities not listed in the table may also find this notice applicable. To determine whether your facility could find this notice applicable, you should carefully examine the applicability criteria in part 372 subpart B of Title 40 of the Code of Federal Regulations. If you have questions regarding the applicability of this action to a particular entity, consult the person listed in the preceding “FOR FURTHER INFORMATION CONTACT” section. You may be able to take advantage of the training courses if:

your facility is a facility covered under section 313 of the Emergency Planning and Community Right-To-Know Act (EPCRA);

your facility is a federal facility that manufactures, processes, or otherwise uses section 313 listed toxic chemicals;

you prepare annual release and other waste management activity reports (i.e., Form R or Form A);

you are a consultant who assists in the preparation of these reports; or

you would like information on recent changes to EPCRA/TRI regulations

The EPA conducts annual training courses to assist you with your reporting requirements under section 313 of the Emergency Planning and Community Right-to-Know Act of 1986 (EPCRA) and section 6607 of the Pollution Prevention Act of 1990 (PPA) or Executive Order 13148 (for federal facilities). You must submit your annual release and other waste management activity reports (i.e., Form R or Form A) if your facility meets the descriptions for the following Standard Industrial Classification (SIC) codes and qualifiers, and meets other criteria specified in part 372 of Title 40 of the Code of Federal Regulations:

Metal Mining (SIC Code 10, except 1011, 1081, and 1094);

Coal Mining (SIC Code 12, except 1241);

Manufacturing (SIC Codes 20-39)

Electricity Generating Facilities (SIC Codes 4911, 4931, and 4939—limited to facilities that combust coal and/or oil for the purpose of generating electricity for distribution in commerce);

Hazardous Waste Treatment/TSDF (SIC Code 4953—limited to facilities regulated under RCRA subtitle C, 42 U.S.C. section 6921 et seq.);

Chemicals and Allied Products (SIC Code 5169);

Petroleum Bulk Plants and Terminals (SIC Code 5171);

Solvent Recovery (SIC Code 7389—limited to facilities primarily engaged in solvents recovery services on a contract or fee basis); and

Federal Facilities (by Executive Order 13148).

B. What is Presented at these Training Courses?

The training courses present reporting requirements of EPCRA section 313 and PPA section 6607. A variety of hands-on exercises using the reporting forms (i.e., Form R or Form A) along with supporting materials will be used to help you understand any reporting obligations you might have under EPCRA section 313. The training courses are scheduled in the spring so that you can prepare and submit your report(s) for the Reporting Year 2000, forms due on or before July 1, 2001.

C. How Much Time is Required for the Training?

The full training course runs two days and a schedule for the 2-day workshops is provided below (see Table 1). The course is divided into three modules. The first module encompasses the first day and is devoted to a general discussion of EPCRA section 313 and PPA section 6607 reporting requirements with exercises used to reinforce key concepts. The second module is given in the morning of the second day, and is designed to provide detailed information about the persistent, bioaccumulative, and toxic (PBT) chemicals within the TRI program. The third and final module is given in the afternoon of the second day, and this module is designed to provide an update to the TRI program and information about difficult policy topics. Interested persons may register for both days (persons with little or no background in EPCRA section 313 and PPA section 6607 reporting requirements) or just the second day (persons experienced in preparing either Form R or Form A). In addition, EPA is conducting abbreviated training courses. These courses are one day in duration and, in some cases, are focused for a particular industry sector(s) (see Table 2).

D. When are these Training Courses Offered and How Do I Register?

The schedules for training courses are provided in the tables below. You should note, however, that changes to the schedules may occur without further notice so it is important to check your registration materials and confirmation notice (see below). Also, you may access current training course schedule information via the TRI Home Page (http://www.epa.gov/tri) or via the TRI training course Home Page (http://www.epcra-tri.com).

You should direct your requests for training course registration materials, including schedules of dates and locations, to the designated contacts in Table 3 (if registration contact is other than SAIC).

To register for any of the EPA training courses supported by SAIC, you can direct your requests to SAIC (www.epcra-tri.com). If you do not have access to the internet, you may fax your request to: (703) 318-4644.

To register, you must provide all of the following information to the registration contact indicated: your name, your company's name and SIC code, your postal address, your telephone number, your fax number, your email address, and your preferred training location(s). Requests should be directed to the indicated registration contact.

You will receive an acknowledgment of application receipt via fax or email. If your application is accepted, a confirmation notice will be sent to you that will contain important information regarding date, location, directions, etc. If the training course you applied for is filled or canceled, alternate training courses will be suggested. Since space is limited, you are encouraged to submit your registration application as early as possible but not less than one week before your preferred training course.

Table 1. EPCRA/TRI Training: Spring 2000 2-Day Workshop Schedule¹ .
Date | Location | Registration Contact
February 21-22 | Denver, CO² | Joyel Dhieux, US EPA Region 8
February 28—March 1 | Denver, CO³ | Joyel Dhieus, US EPA Region 8
March 5-6 | Philadelphia, PA | Science Application International Corporation (SAIC)
March 7-8 | Falls Church, VA (Washington, DC) | SAIC
March 13-14 | Salt Lake City, UT³ | Joyel Dhieux, US EPA Region 8
March 19-20 | Boston, MA | SAIC
March 20-21 | Denver, CO² | Joyel Dhieux, US EPA Region 8
March 21-22 | Newington, CT | SAIC
March 22-23 | Los Angeles, CA | SAIC
March 27-28 | Salt Lake City, UT² | Joyel Dhieux, US EPA Region 8
March 29-30 | Milwaukee, WI | SAIC
April 2-3 | Dallas, TX | SAIC
April 3-4 | Roanoke, VA | SAIC
April 4-5 | New Orleans, LA | SAIC
April 9-10 | Honolulu, HI | SAIC
April 9-10 | Sioux Falls, SD | SAIC
April 12-13 | San Francisco, CA | SAIC
April 16-17 | Atlanta, GA | SAIC
April 16-17 | Pocatello, ID | SAIC
April 18-19 | Salt Lake City, UT | SAIC
April 18-19 | Nashville, TN | SAIC
April 25-26 | Denver, CO⁴ | Joyel Dhieux, US EPA Region 8
April 25-26 | Kansas City, KS | SAIC
April 30-May 01 | Charlotte, NC | SAIC
May 1-2 | Edison, NJ | SAIC
May 2-3 | Orlando, FL | SAIC
May 3-4 | New York, NY | SAIC
May 10-11 | Phoenix, AZ | SAIC
May 14-15 | Las Vegas, NV | SAIC
May 14-15 | Jackson, MS | SAIC
May 16-17 | Atlanta, GA | SAIC
May 21-22 | Portland, OR | SAIC
May 23-24 | Seattle, WA | SAIC

¹ = This schedule may change without further notice. A schedule reflecting any changes to this notice will be posted at http://www.epa.gov/tri;

² = Manufacturing and select new industries only;

³ = Mining and Electricity Generating Facilities only;

⁴ = Federal Facilites only.

Table 2. Schedule for Other EPCRA/TRI Workshops¹
Date | 1Location | Registration Contact
March 14 | Chicago, IL | SAIC
March 15 | Indianapolis, IN | SAIC
March 21 | Carson, CA | Warren Layne, US EPA Region 6
March 26 | San Diego, CA | SAIC
March 27 | Riverside, CA | SAIC
April 5 | San Jose, CA | SAIC
April 6 | Reno, NV | SAIC
April 10 | Richmond, V | Mega-tech
April 11 | St. Louis, MO² | SAIC
April 12 | Overland Park, KS² | SAIC
April 23 | Cedar Rapids, IO² | SAIC
April 24 | Lincoln, NE² | SAIC
April 24 | Chicago, IL | Fran Guido, US EPA Region 5
April 24 | Baltimore, MD | Mega-tech
April 24 | Puerto Rico, VI | SAIX
April 25 | Puerto Rico, VI | SAIC
April 26 | Davenport, IA | Stephen Wurtz, US EPA Region 7
April 26 | Hagerstown, MD | Mega-tech
May 1 | Pittsburgh, PA | Mega-tech
May 2 | Meadville, PA | Conrad Sobczak
May 3 | Madison, WI | Fran Guido, US EPA Region 5
May 9 | Cincinnati, OH | Fran Guido, US EPA Region 5
May 9 | Tucson, AZ | SAIC
May 9 | Cherry Hill, NJ | SAIC
May 10 | Rochester, NY | SAIC
May 15 | Pittston, PA | Len Carlin
May 15 | Grand Rapids, MI | Fran Guido, US EPA Region 5
May 18 | Moses Lake, WA | SAIC
May 22 | Philadelphia, PA | Mega-tech
May 23 | Strongsville, OH | Fran Guido, US EPA Region 5
May 24 | Philadelphia, PA | Mega-tech
May 29 | Philadelphia, PA | Mega-tech
May 30 | South Bend, IN | Fran Guido, US EPA Region 5
May 31 | Philadelphia, PA | Mega-tech
June 5 | Philadelphia, PA | Mega-tech
June 6 | Bloomington, MN | Fran Guido, US EPA Region 5

¹ = This schedule may change without further notice. A schedule reflecting any changes from this notice will be posted at http://www.epa.gov/tri;

² = Registration fee may be required for these workshops.

Table 3. Registration Contacts
Contact | Telephone | Fax | Email/Web Site
Lann Malesky, Duane Jennings,Carmen Urbina Mega-tech | (888) 534-1629
Jan Taylor National Institute for Chemical Studies | (304 346-6264 |
Conrad Sobczak Air & Waste Mgmt. Assoc. | (814) 878-5508
Len Carlin Economic Development Council of NE PA | (570) 655-5581
Bill Reilly US EPA Region 3 | (215) 814-2072 |  | reilly.bill@epa.gov
Fran Guido US EPA Region 5 | (312) 886-0404
Warren Layne US EPA Region 6 | (214) 665-8013 |  | layne.warren@epa.gov
Stephen Wurtz US EPA Region 7 | (913) 551-7680 | (913) 551-5021 | luce.judy@epa.gov
Joyel Dhieux US EPA Region 8 | (303) 312-6447 |  | dhieux.joyel@epa.gov
SAIC |  | (703) 318-4644 | Training@EPCRA-TRI.com or http://www.EPCRA-TRI.com

E. How Much Will the Training Course Cost?

There is no registration fee for the 2-Day EPCRA/TRI Training courses; however, there may be a registration fee for some of the 1-day EPCRA/TRI workshops (check with the registration contact for fees and further information). You may access information regarding registration fees via the TRI Home Page (http://www.epa.gov/tri) or by contacting the respective Registration Contact listed above (see Table 3). If there is insufficient interest at any of the training course locations, those courses may be canceled. The Agency bears no responsibility for your decision to purchase non-refundable transportation tickets or accommodation reservations.

List of Subjects

Environmental protection, Community right-to-know, Reporting and recordkeeping requirements, Toxics Release Inventory.

Dated: February 20, 2001.
Elaine G. Stanley,
Director, Office of Information Analysis and Access.

[FR Doc. 01-4879 Filed 2-27-01; 8:45 am]

BILLING CODE 6560-50-F